DEPARTMENT OF THE INTERIOR

Fish and Wildlife Service

50 CFR Part 32

Refuge-Specific Hunting and Sport Fishing Regulations

CFR Correction

In Title 50 of the Code of Federal Regulations, Parts 18 to 199, revised as of October 1, 2011, on page 410, in § 32.44, the entry for Middle Mississippi River National Wildlife Refuge is reinstated to read as follows:

§ 32.44 Missouri.

* * * * *

Middle Mississippi River National Wildlife Refuge

Refer to § 32.32 Illinois for regulations.

* * * * *

[FR Doc. 2012-23171 Filed 9-18-12; 8:45 am]

BILLING CODE 1505-01-D